DEPARTMENT OF HEALTH AND HUMAN SERVICES

Administration for Children and Families

Proposed Information Collection Activity; Human Services Programs in Rural Contexts Study

AGENCY: Office of Planning, Research, and Evaluation, Administration for Children and Families, U.S. Department of Health and Human Services.

ACTION: Request for public comment.

SUMMARY: The Administration for Children and Families (ACF) at the U.S. Department of Health and Human Services is proposing to collect data on the challenges and unique opportunities of administering human services programs in rural contexts. Case studies of 12 communities, in combination with analysis of administrative data and qualitative comparative analysis of the qualitative data, will provide ACF with a rich description of human services programs in rural contexts and provide ACF opportunities for strengthening human services programs' capacity to promote the economic and social wellbeing of individuals, families, and communities in rural contexts.

DATES: Comments due within 60 days of publication. In compliance with the requirements of Section 3506(c)(2)(A) of the Paperwork Reduction Act of 1995, ACF is soliciting public comment on the specific aspects of the information collection described above.

ADDRESSES: Copies of the proposed collection of information can be obtained and comments may be forwarded by emailing OPREinfocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION: Description: ACF proposes to conduct key informant interviews during site visits to 12 rural communities. While ACF intends to conduct on-site visits, if the current COVID-19 pandemic makes it too difficult to travel safely, we will conduct these interviews virtually. This study will involve four data collection instruments:

• Site Visit Planning Template. Each Project Director (or their designee) will complete a Site Visit Planning Template to assist the study team in scheduling site visit interviews.

• Three Site Visit Discussion Guides. To systematically capture data on challenges and unique opportunities, the study team will conduct interviews with (1) project directors and leaders from human services organizations, (2) staff from the human services and partner organizations, and (3) staff from nonprofit and partner organizations that support individuals who utilize human services.

Respondents: Human services project directors and leadership staff, human services program staff, and staff from nonprofit organizations and partners that provide support to individuals who utilize human services.

Annual Burden Estimates
Instrument | Number of respondents (total over request period) | Number of responses per respondent (total over request period) | Average burden per response (in hours) | Total burden (in hours) | Annual burden (in hours)
In-Person Site Visit Planning Template (Instrument 1a); or Virtual Site Visit Planning Template (Instrument 1b) | 12 | 1 | 2 | 24 | 12
Project Directors and Leaders Site Visit Discussion Guide (Instrument 2) | 60 | 1 | 2 | 120 | 60
Staff Site Visit Discussion Guide (Instrument 3) | 108 | 1 | 1.5 | 162 | 81
Nonprofit or Partner Organizations Site Visit Discussion Guide (Instrument 4) | 72 | 1 | 1 | 72 | 36

Estimated Total Annual Burden Hours: 189.

Comments: The Department specifically requests comments on (a) whether the proposed collection of information is necessary for the proper performance of the agency's functions, including whether the information shall have practical utility; (b) the accuracy of the agency's estimate of the burden of the proposed collection of information; (c) the quality, utility, and clarity of the information to be collected; and (d) ways to minimize the burden of information collection on respondents, including through using automated collection techniques or other forms of information technology. Consideration will be given to comments and suggestions submitted within 60 days of this publication.

Authority: 42 U.S.C. 613, 42 U.S.C. 1397, 42 U.S.C. 711, and 42 U.S.C. 603(a)(2).

Mary B. Jones,
ACF/OPRE Certifying Officer.

[FR Doc. 2020-26248 Filed 11-27-20; 8:45 am]

BILLING CODE 4184-09-P